ENVIRONMENTAL PROTECTION AGENCY

[ORD-2003-0010; FRL-7633-3]

Agency Information Collection Activities; Submission to OMB for Review and Approval; Comment Request; Personal Exposure of High-Risk Subpopulations to Particles (Addition of Detroit Exposure and Aerosol Research Study (DEARS)), EPA ICR Number 1887.03, OMB Control Number 2080-0058

AGENCY: Environmental Protection Agency.

ACTION: Notice.

SUMMARY: In compliance with the Paperwork Reduction Act (44 U.S.C. 3501 et seq.), this document announces that an Information Collection Request (ICR) has been forwarded to the Office of Management and Budget (OMB) for review and approval. This ICR is scheduled to expire on October 31, 2005. Under OMB regulations, the Agency may continue to conduct or sponsor the collection of information while this submission is pending at OMB. This ICR describes the nature of the information collection and its estimated burden and cost.

DATES: Additional comments may be submitted on or before April 8, 2004.

ADDRESSES: Submit your comments, referencing docket ID number ORD-2003-0010, to (1) EPA online using EDOCKET (our preferred method), by email to oei.docket@epa.gov, or by mail to: EPA Docket Center, Environmental Protection Agency, Office of Environmental Information Docket, Mail Code 28221T, 1200 Pennsylvania Ave., NW, Washington, DC 20460, and (2) OMB at: Office of Information and Regulatory Affairs, Office of Management and Budget (OMB), Attention: Desk Officer for EPA, 725 17th Street, NW, Washington, DC 20503.

FOR FURTHER INFORMATION CONTACT: Barbara Blackwell, MD E205-01, Environmental Protection Agency, Research Triangle Park, NC 27711; telephone number: (919) 541-2886; fax number: (919) 541-0905; email address: blackwell.barbara@epa.gov.

SUPPLEMENTARY INFORMATION: EPA has submitted the following ICR to OMB for review and approval according to the procedures prescribed in 5 CFR 1320.12. On October 3, 2003 (68 FR 57441), EPA sought comments on this ICR pursuant to 5 CFR 1320.8(d). EPA has addressed the comments received.

EPA has established a public docket for this ICR under Docket ID No. ORD-2003-0010, which is available for public viewing at the Office of Environmental Information Docket in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Personal Exposure of High-Risk Subpopulations to Particles (Addition of Detroit Exposure and Aerosol Research Study (DEARS)).

Abstract: EPA's Office of Research and Development proposes to conduct a residential and personal exposure field monitoring study in the city of Detroit, Michigan, over a three-year period from 2004 to 2006. The primary goal of the study is to evaluate and describe the relationship between air toxics and PM constituents measured at a central site monitor and measurements of residential and personal concentrations. An emphasis is placed on understanding the impact of local sources (point and mobile) on outdoor residential concentrations and the impact of housing type and house operation on indoor concentrations. Personal air pollutant monitoring will be conducted to determine the impact of time spent in nonresidential locations and personal activities on exposure. Approximately 120 persons will voluntarily agree to wear certain personal air monitors and to allow their homes to be equipped with other monitors to measure indoor and outdoor residential air quality. Each home will be monitored for five consecutive days in the summer and five consecutive days in the winter. The study is a continuation and expansion of previous OMB-approved studies of human exposure to particles, undertaken in response to recommendations of the National Academy of Sciences.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Residents of Wayne County, Michigan.

Estimated Number of Respondents: 40.

Frequency of Response: Semi-annually.

Estimated Total Annual Hour Burden: 300.

Estimated Total Annual Cost: $2,880, includes $0 annualized capital or O&M costs.

Dated: March 1, 2004.
Richard T. Westlund,
Acting Director, Collection Strategies Division.

[FR Doc. 04-5287 Filed 3-8-04; 8:45 am]

BILLING CODE 6560-50-P